DEPARTMENT OF COMMERCE

National Oceanic and Atmospheric Administration

Coastal Zone Management: Federal Consistency Appeal by Collier Resources Company by an Objection by the State of Florida

AGENCY: National Oceanic and Atmospheric Administration.

ACTION: Dismissal of appeal.

On April 3, 2000, the Secretary of Commerce (Secretary) received a notice of appeal from Collier Resources Company (Appellant) pursuant to section 307(c)(3) (A) and (B) of the Coastal Zone Management Act of 1972 (CZMA), as amended, 16 U.S.C. 1451 et seq. and the Department of Commerce's implementing regulations 15 CFR part 930, subpart H. The appeal was taken from an objection by the State of Florida to Appellant's consistency certification for a National Park Service approval of a Landing Strips Plan of Operations to conduct geophysical exploration of a portion of their mineral estate beneath the Big Cypress National Preserve.

Appellant challenged Florida's CZMA objection on three procedural grounds: (1) Florida did not follow NOAA's regulations in listing the permits subject to CZMA consistency in its CMP and therefore, Appellant is not required to submit to CZMA consistency; (2) Florida's CZMA objection did not meet the requirements of NOAA's regulations; (3) Florida's CZMA objection is premature because Appellant had not submitted a consistency certification. Florida disputed all of Appellant's claims and, in addition, claimed that the Secretary of Commerce does not have authority under the CZMA to decide procedural matters such as those argued by Appellant.

In his letter dismissing this matter for good cause, the Under Secretary found that the Secretary of Commerce has the authority, as a matter of law, to review consistency appeals for compliance with CZMA Federal consistency procedures and issue decisions prior to development or consideration of the substantive issues; that Florida has not properly listed the National Park Service oil and gas exploration approvals in its coastal management program; that a consistency certification is an essential part of the Federal consistency review process and without it Florida cannot issue a valid objection. The Under Secretary decided that Florida's objection was not valid and dismissed the appeal for good cause.

FOR FURTHER INFORMATION CONTACT: Ms. Mary Gray Holt, Attorney-Adviser, Office of the Assistant General Counsel for Ocean Services, National Oceanic and Atmospheric Administration, U.S. Department of Commerce, 1305 East-West Highway, Room 6111, Silver Spring, MD 20910, 301-713-2967.

[Federal Domestic Assistance Catalog No. 11.419 Coastal Zone Management Program Assistance]
Dated: June 24, 2002.
James R. Walpole,
General Counsel.

[FR Doc. 02-17036 Filed 7-5-02; 8:45 am]

BILLING CODE 3510-08-M